TENNESSEE VALLEY AUTHORITY

Meeting of the Regional Resource Stewardship Council

AGENCY: Tennessee Valley Authority (TVA).

ACTION: Notice of Meeting.

SUMMARY: The TVA Regional Resource Stewardship Council (RRSC) will hold a meeting on Wednesday, January 19 and Thursday, January 20, 2011, to consider various matters.

The RRSC was established to advise TVA on its natural resource stewardship activities. Notice of this meeting is given under the Federal Advisory Committee Act (FACA), 5 U.S.C. App. 2.

The management of the Tennessee Valley reservoirs and the lands adjacent to them has long been an integral component of TVA's mission. As part of implementing the TVA Environmental Policy, TVA is developing a Natural Resource Plan (NRP) that will help prioritize techniques for the management of TVA's biological and cultural resource management activities, recreation management activities, water resource protection and improvement activities, and lands planning. In accordance with the National Environmental Policy Act, TVA is also developing an accompanying Environmental Impact Statement (EIS) in which TVA will evaluate the preferred strategy for the NRP, as well as other viable alternative strategies. TVA would like to utilize the RRSC as a key stakeholder group throughout the development of the NRP to advise TVA on the issues, tradeoffs, and focus of environmental stewardship activities. At the January 2011 meeting, TVA will be seeking advice from the RRSC on issues regarding the key programs in each resource area, the management options and scenario planning described in the NRP, and the valuation of natural resource programs.

The meeting agenda includes the following:

1. Introductions

2. Natural Resource Plan Overview; Options for the management of biological, cultural, water, and recreational resources, and lands planning; Valuation of natural resource programs

3. RRSC Discussion Topic: The scope of the programs included in the resource area components of the NRP (e.g., Biological and Cultural Resource Management, Reservoir Lands Planning, Water Resources, and Recreation) and the valuation and weighting of benefits stemming from such programs

4. Public Comments

5. RRSC Discussion and Advice

The TVA RRSC will hear opinions and views of citizens by providing a public comment session. The public comment session will be held at 10:00 a.m., EST, on Thursday, January 20. Persons wishing to speak are requested to register at the door by 9:00 a.m. on Thursday, January 20 and will be called on during the public comment period. Handout materials should be limited to one printed page. Written comments are also invited and may be mailed to the Regional Resource Stewardship Council, Tennessee Valley Authority, 400 West Summit Hill Drive, WT 11B, Knoxville, Tennessee 37902.

DATES: The meeting will be held on Wednesday, January 19 from 8:30 a.m. to 4:30 p.m., and Thursday, January 20 from 8 a.m. to 12 noon, EST.

ADDRESSES: The meeting will be held at the Sheraton Read House, 827 Broad Street, Chattanooga, Tennessee 37402, and will be open to the public. Anyone needing special access or accommodations should let the contact below know at least one week in advance.

FOR FURTHER INFORMATION CONTACT: Beth Keel, 400 West Summit Hill Drive, WT 11B, Knoxville, Tennessee 37902, (865) 632-6113.

Dated December 14, 2010.
Anda A. Ray,
Senior Vice President, Office of Environment and Research, Tennessee Valley Authority, WT 11A-K.

[FR Doc. 2010-32075 Filed 12-21-10; 8:45 am]

BILLING CODE 8120-08-P